NEIGHBORHOOD REINVESTMENT CORPORATION

Sunshine Act Meetings; Audit Committee Meeting

TIME AND DATE: 2:00 p.m., Thursday, March 10, 2022.

PLACE: Via Conference Call.

STATUS: Parts of this meeting will be open to the public. The rest of the meeting will be closed to the public.

MATTERS TO BE CONSIDERED: Audit Committee Meeting.

The General Counsel of the Corporation has certified that in his opinion, one or more of the exemptions set forth in the Government in the Sunshine Act, 5 U.S.C. 552b(c)(2) and (4) permit closure of the following portion(s) of this meeting:

• Executive Session

Agenda

I. Call to Order

II. FY21 External Audit—BDO

III. Sunshine Act Approval of Executive (Closed) Session

IV. Executive Session with External Auditors—BDO

V. Executive Session with Chief Audit Executive

VI. Action Item Approval of FY21 External Audit

VII. Action Item HPN Launchpad Acquisition Audit Report

VIII. Internal Audit Status Reports

a. Internal Audit Reports Awaiting Management's Response

○ Finance—Accounts Payable/ACH Transactions (NetSuite) FY21

b. ITS Road Map IAM Dependency

c. Internal Audit Performance Scorecard

d. Implementation of Internal Audit Recommendations

IX. Adjournment

CONTACT PERSON FOR MORE INFORMATION: Lakeyia Thompson, Special Assistant, (202) 524-9940; Lthompson@nw.org.

Lakeyia Thompson,
Special Assistant.

[FR Doc. 2022-04604 Filed 3-1-22; 11:15 am]

BILLING CODE 7570-02-P